DEPARTMENT OF COMMERCE

Foreign-Trade Zones Board

[B-51-2021]

Foreign-Trade Zone (FTZ) 84—Houston, Texas; Notification of Proposed Production Activity; Schlumberger Technology Corporation, Reslink Product Center (Sand Screens and Related Accessories); Baytown and Houston, Texas

Schlumberger Technology Corporation, Reslink Product Center (STC Reslink) submitted a notification of proposed production activity to the FTZ Board for its facilities in Baytown and Houston, Texas. The notification conforming to the requirements of the regulations of the FTZ Board (15 CFR 400.22) was received on July 1, 2021.

STC Reslink already has authority to produce sand screens and related accessories within Subzone 84AA. The current request would add a foreign status material/component to the scope of authority. Pursuant to 15 CFR 400.14(b), additional FTZ authority would be limited to the specific foreign-status material/component described in the submitted notification (as described below) and subsequently authorized by the FTZ Board.

Production under FTZ procedures could exempt STC Reslink from customs duty payments on the foreign-status material/component used in export production. On its domestic sales, for the foreign-status material/component noted below, STC Reslink would be able to choose the duty rates during customs entry procedures that apply to sand screens (with or without filters), swell packers, joint adapters (bottom or top), and jumper tubes (duty rate ranges from duty-free to 5.0%). STC Reslink would be able to avoid duty on foreign-status components which become scrap/waste. Customs duties also could possibly be deferred or reduced on foreign-status production equipment.

The material/component sourced from abroad is cold-rolled stainless steel sheet metal with punched holes (duty-free). The request indicates that the material/component is subject to duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is August 23, 2021.

A copy of the notification will be available for public inspection in the “Reading Room” section of the Board's website, which is accessible via www.trade.gov/ftz.

For further information, contact Juanita Chen at juanita.chen@trade.gov or 202-482-1378.

Dated: July 7, 2021.
Andrew McGilvray,
Executive Secretary.

[FR Doc. 2021-14749 Filed 7-9-21; 8:45 am]

BILLING CODE 3510-DS-P